INTERNATIONAL TRADE COMMISSION

[Investigation Nos. 701-TA-609 and 731-TA-1421 (Review)]

Steel Trailer Wheels From China

Determinations

On the basis of the record ¹ developed in the subject five-year reviews, the United States International Trade Commission (“Commission”) determines, pursuant to the Tariff Act of 1930 (“the Act”), that revocation of the antidumping and countervailing duty orders on steel trailer wheels from China would be likely to lead to continuation or recurrence of material injury to an industry in the United States within a reasonably foreseeable time.

¹ The record is defined in § 207.2(f) of the Commission's Rules of Practice and Procedure (19 CFR 207.2(f)).

Background

The Commission instituted these reviews on August 1, 2024 (89 FR 62783) and determined on November 4, 2024 that it would conduct expedited reviews (89 FR 95814, December 3, 2024).

The Commission made these determinations pursuant to section 751(c) of the Act (19 U.S.C. 1675(c)). It completed and filed its determinations in these reviews on March 7, 2025. The views of the Commission are contained in USITC Publication 5596 (March 2025), entitled Steel Trailer Wheels from China: Investigation Nos. 701-TA-609 and 731-TA-1421 (Review).

By order of the Commission.
Issued: March 7, 2025.
Susan Orndoff,
Supervisory Attorney.

[FR Doc. 2025-03961 Filed 3-12-25; 8:45 am]

BILLING CODE 7020-02-P